DEPARTMENT OF DEFENSE

Department of the Army; Corps of Engineers

Availability of the Draft Environmental Impact Statement for the Pike County, KY (Levisa Fork Basin), Section 202 Project

AGENCY: Department of the Army, Army Corps of Engineers, DoD.

ACTION: Extension of comment period.

SUMMARY: The Corps of Engineers is extending the comment period for the Draft Environmental Impact Statement (DEIS) for the Pike County, Kentucky (Levisa Fork Basin), section 202 project published in the Federal Register, February 6, 2004 (69 FR 5842). This extension will provide interested persons with additional time to prepare comments on the draft.

DATES: Consideration will be given only to comments that are received on or before April 5, 2004.

ADDRESSES: Send written comments and suggestions concerning this proposed project to S. Michael Worley, PM-PD, U.S. Army Corps of Engineers, Huntington District, 502 Eighth Street, Huntington, WV 25701-2070. Telephone: (304) 399-5636 or fax: (304) 399-5136. Requests for copies of the DEIS or to be placed on the mailing list should also be sent to this address. Submit electronic comments in ASCII, Microsoft Word, or Word Perfect file format to Stephen.M.Worley@usace.army.mil.

FOR FURTHER INFORMATION CONTACT: To obtain additional information about the proposed project, contact Mr. Mark D. Kessinger, phone: (304) 399-5083. Electronic mail: Mark.d.kessinger@usace.army.mil.

SUPPLEMENTARY INFORMATION: None.

Luz D. Ortiz,
Army Federal Register Liaison Officer.

[FR Doc. 04-3827 Filed 2-20-04; 8:45 am]

BILLING CODE 3710-GM-M